DEPARTMENT OF ENERGY

Federal Energy Regulatory Commission

[Docket No. CP07-8-000]

Guardian Pipeline, L.L.C; Notice of the Change in Location of the Public Comment Meetings for the Guardian Expansion and Extension Project Draft Environmental Impact Statement

May 1, 2007.

On April 13, 2007, the staff of the Federal Energy Regulatory Commission (FERC or Commission) issued a draft Environmental Impact Statement (EIS) for the Guardian Expansion and Extension Project, proposed by Guardian Pipeline, L.L.C. Issuance of the draft EIS began a 45-day public comment period which will end on May 29, 2007. In addition to accepting written comments on the draft EIS, the Commission staff will be hosting public comment meetings in the project area to accept oral comments as listed in the following table.

Public meeting date and time | Location
Tuesday, May 15, 2007 at 7 p.m. (CST) | Olympia Resort and Conference Center, 1350 Royale Mile Road, Oconomowoc, WI 53066, Phone: (262) 369-4999.
Wednesday, May 16, 2007 at 7 p.m. (CST) | Bauer Ramada Plaza Hotel, 1 North Main St., Fond du Lac, WI 54935, Phone: (920) 923-3000.
Thursday, May 17, 2007 at 7 p.m. (CST) | Regency Suites and Conference Center Downtown Green Bay, 333 Main St., Green Bay, WI 54301, Phone: (920) 432-4555.

Comment Procedure

Instructions for submitting written comments are included in the draft EIS and the Notice of Availability that were issued on April 13, 2007. These documents can be found on the FERC Internet Web site as discussed below. Oral comments presented at the public comment meetings will be given the same consideration as written comments received by mail before the close of the public comment period on May 29, 2007.

As with previous public meetings on the Guardian Expansion and Extension Project, attendees will be asked to provide their name and address so that any project-related environmental information issued by the Commission may be mailed to all attendees. Additionally, those wishing to provide oral comments will be asked to put their name on a Speakers List. Depending on the number of individuals wishing to provide oral comments, speakers may be asked to limit their presentations to 5 minutes in order that all speakers may be accommodated. Transcripts of the public comment meetings will be prepared and placed into the FERC's public record.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

Kimberly D. Bose,
Secretary.

[FR Doc. E7-8703 Filed 5-7-07; 8:45 am]

BILLING CODE 6717-01-P